DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of December 2, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 8, 2015.
Roy E. Wright,
Deputy Associate Administrator for Insurance and Mitigation, Department of Homeland Security, Federal Emergency Management Agency.

I. Watershed-based studies:

II. Non-watershed-based studies:

Community | Community map repository address
Mohave County, Arizona, and Incorporated Areas
Docket No.: FEMA-B-1440
City of Lake Havasu | City Hall, 2330 McCulloch Boulevard North, Lake Havasu City, AZ 86403.
Fort Mojave Indian Tribe | Fort Mojave Indian Reservation, 500 Merriman Avenue, Needles, CA 92363.
Unincorporated Areas of Mohave County | County Administration Building, 700 West Beale Street, Kingman, AZ 86401.
Modoc County, California, and Incorporated Areas
Docket No.: FEMA-B-1311
City of Alturas | Director of Public Works, 200 West North Street, Alturas, CA 96101.
Unincorporated Areas of Modoc County | Modoc County Planning Department, 203 West 4th Street, Alturas, CA 96101.
Nye County, Nevada, and Incorporated Areas
Docket No.: FEMA-B-1284
Unincorporated Areas of Nye County | Nye County Department of Planning, 1114 Globe Mallow, P.O. Box 1531, Tonopah, NV 89049.
Bennington County, Vermont (All Jurisdictions)
Docket No.: FEMA-B-1440
Town of Arlington | Town Clerk Building, 3828 Vermont Route 7A, Arlington, VT 05250.
Town of Bennington | Zoning Office, 205 South Street, Bennington, VT 05201.
Town of Dorset | Zoning Office, 112 Mad Tom Road, East Dorset, VT 05253.
Town of Landgrove | Town Hall, 88 Landgrove Road, Landgrove, VT 05148.
Town of Manchester | Planning and Zoning Office, 6039 Main Street, Manchester, VT 05255.
Town of Peru | Town Center, 402 Main Street, Peru, VT 05152.
Town of Pownal | Town Office, 467 Center Street, Pownal, VT 05261.
Town of Readsboro | Town Hall, 301 Phelps Lane, Readsboro, VT 05350.
Town of Rupert | Town Office, 187 East Street, West Rupert, VT 05776.
Town of Sandgate | Town Hall, 3266 Sandgate Road, Sandgate, VT 05250.
Town of Searsburg | Town Hall, 18 Town Garage Road, Searsburg, VT 05363.
Town of Shaftsbury | Cole Hall, 61 Buck Hill Road, Shaftsbury, VT 05262.
Town of Stamford | Town Hall, 986 Main Road, Stamford, VT 05352.
Town of Sunderland | Town Clerk's Office, 104 Mountain View Road, Sunderland, VT 05250.
Town of Winhall. | Town Hall, 115 Vermont Route 30, Bondville, VT 05340.
Town of Woodford | Town Hall, 1391 Vermont Route 9, Woodford, VT 05201.
Village of Manchester | Village Office, 45 Union Street, Manchester, VT 05254.
Village of North Bennington | Train Station, Depot Street and Main Street, North Bennington, VT 05257.
Isle of Wight County, Virginia, and Incorporated Areas
Docket No.: FEMA-B-1419
Town of Smithfield | Planning, Engineering and Public Works Department, 310 Institute Street, Smithfield, VA 23430.
Unincorporated Areas of Isle of Wight County | Isle of Wight County Planning and Zoning Department, 17140 Monument Circle, Suite 201, Isle of Wight, VA 23397.

[FR Doc. 2015-27752 Filed 10-29-15; 8:45 am]

BILLING CODE 9110-12-P